ENVIRONMENTAL PROTECTION AGENCY

40 CFR Part 52

[Docket No. EPA-R02-OAR-2012-0889; FRL-9826-9]

Adequacy Status of the Submitted 2009 and 2025 PM2.5 Motor Vehicle Emission Budgets for Transportation Conformity Purposes for New Jersey

AGENCY: Environmental Protection Agency (EPA).

ACTION: Notice of adequacy.

SUMMARY: In this action, EPA is notifying the public that we have found that the motor vehicle emissions budgets for PM2.5 and NOX in the submitted maintenance plans for the New Jersey portions of the New York-Northern New Jersey-Long Island, NY-NJ-CT, and Philadelphia-Wilmington, PA-NJ-DE, PM2.5 nonattainment areas to be adequate for transportation conformity purposes. The transportation conformity rule requires that the EPA conduct a public process and make an affirmative decision on the adequacy of budgets before they can be used by metropolitan planning organizations in conformity determinations. As a result of our finding, two metropolitan planning organizations in New Jersey (the North Jersey Transportation Planning Authority and the Delaware Valley Regional Planning Commission) must use the new 2009 and 2025 PM2.5 budgets for future transportation conformity determinations.

DATES: This finding is effective July 9, 2013.

FOR FURTHER INFORMATION CONTACT: Matt Laurita, Air Programs Branch, Environmental Protection Agency—Region 2, 290 Broadway, 25th Floor, New York, New York 10007-1866, (212) 637-3895, laurita.matthew@epa.gov.

The finding and the response to comments will be available at EPA's conformity Web site: http://www.epa.gov/otaq/stateresources/transconf/adequacy.htm.

SUPPLEMENTARY INFORMATION:

Background

On December 26, 2012, New Jersey submitted redesignation requests and maintenance plans to EPA for both the New York-Northern New Jersey-Long Island, NY-NJ-CT (Northern New Jersey), and Philadelphia-Wilmington, PA-NJ-DE (Southern New Jersey), PM2.5 nonattainment areas. The purpose of New Jersey's submittal was to request a redesignation to attainment for both the 1997 and 2006 PM2.5 National Ambient Air Quality Standards (NAAQS) and submit a state implementation plan to provide for maintenance of the standard for the first ten years of a 20-year maintenance period. New Jersey's request was pursuant to EPA's findings that that the Northern New Jersey area had attained the 1997 (75 FR 69589) and 2006 (77 FR 76867) PM2.5 NAAQS, and that the Southern New Jersey area had attained the 1997 (77 FR 28782) and 2006 (78 FR 882) PM2.5 NAAQS, based on ambient air quality monitoring data. New Jersey's submittal included motor vehicle emissions budgets (“budgets”) for 2009 and 2025 for use by the State's metropolitan planning organizations in making transportation conformity determinations. On September 12, 2012, EPA posted the availability of the budgets our Web site for the purpose of soliciting public comments. The comment period closed on October 12, 2012, and we received no comments.

New Jersey developed these budgets, as required, for the last year of its maintenance plan, 2025, and an additional year, 2009, for the purpose of establishing budgets for the near-term based on EPA's MOVES model. Previously established and approved budgets had been based on MOBILE6.2. New Jersey also determined that budgets based on annual emissions of direct PM2.5 and NOX, a precursor, are appropriate for the 2006 daily standard because exceedences of the standard were not isolated to one particular season; therefore, the budgets being found adequate today will be used by transportation agencies to meet conformity requirements for both the annual and daily standards.

The 2009 budgets were developed without an accompanying full emissions inventory. EPA believes that this approach is approvable and is consistent with attainment and maintenance of both the 1997 and 2006 PM2.5 standards because of our earlier determinations that both the Northern New Jersey and Southern New Jersey PM2.5 nonattainment areas had attained the standards based on monitored air quality that included the year 2009.

The budgets for 2025 reflect the total on-road emissions for 2025, plus an allocation from the available NOX and PM2.5 safety margins. Under 40 CFR 93.101, the term “safety margin” is the difference between the attainment level (from all sources) and the projected level of emissions (from all sources) in the maintenance plan. The safety margin can be allocated to the transportation sector; however, the total emissions must remain below the attainment level. New Jersey chose to add 8% of the available safety margin to both the PM2.5 and NOX budgets for 2025 for both the Northern New Jersey and Southern New Jersey nonattainment areas. The NOX and PM2.5 budgets and safety margin allocations were developed in consultation with the transportation partners and were added to accommodate expected future improvements to MOVES model inputs and methodologies.

In the submittal, the State has also established “sub-area budgets” for the two metropolitan planning organizations (MPO) within the Northern New Jersey nonattainment area: the North Jersey Transportation Planning Authority (NJTPA) and the Delaware Valley Regional Planning Commission (DVRPC). These sub-area budgets allow each MPO to work independently to demonstrate conformity by meeting its own PM2.5 and NOX budgets. Each MPO must still verify, however, that the other MPO currently has a conforming long range transportation plan and transportation improvement program (TIP) prior to making a new plan or TIP conformity determination. The budgets for both the Northern New Jersey and Southern New Jersey areas are defined in Tables 1 and 2 below.

Adequacy Process

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the National Ambient Air Quality Standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in 40 CFR 93.118(f). We have followed this rule in making our adequacy determination. The motor vehicle emissions budgets being found adequate today are listed in Tables 1 and 2 and include direct PM2.5 and its precursor, NOX. EPA's finding will also be announced on EPA's conformity Web site: http://www.epa.gov/otaq/stateresources/transconf/adequacy.htm.

EPA Review

EPA's adequacy review of New Jersey's submitted budgets indicates that the budgets meet the adequacy criteria set forth by 40 CFR 93.118(e)(4), as follows:

(i) The submitted control strategy implementation plan revision or maintenance plan was endorsed by the Governor (or his or her designee) and was subject to a State public hearing: The SIP revision was submitted to EPA by the Commissioner of the New Jersey Department of Environmental Protection, who is the Governor's designee.

(ii) Before the control strategy implementation plan or maintenance plan was submitted to EPA, consultation among federal, State, and local agencies occurred; full implementation plan documentation was provided to EPA; and EPA's stated concerns, if any, were addressed: New Jersey conducted an interagency consultation process involving EPA and USDOT, the New Jersey Department of Transportation and affected MPOs. All comments and concerns were addressed prior to the final submittal.

(iii) The motor vehicle emissions budget(s) is clearly identified and precisely quantified: The budgets were clearly identified and quantified and are presented here in Tables 1 and 2.

(iv) The motor vehicle emissions budget(s), when considered together with all other emissions sources, is consistent with applicable requirements for maintenance: Both the 2009 and 2025 budgets are less than the on-road mobile source inventory for 2007 that was shown to be consistent with attainment of the standards. In addition, the 2009 budgets are for a year in which EPA has determined that New Jersey attained the applicable air quality standards and are therefore consistent with maintenance of the respective standards.

(v) The motor vehicle emissions budget(s) is consistent with and clearly related to the emissions inventory and the control measures in the submitted control strategy implementation plan revision or maintenance plan: The budgets were developed from the on-road mobile source inventories, including all applicable state and Federal control measures. Inputs related to inspection and maintenance and fuels are consistent with New Jersey's Federally-approved control programs.

(vi) Revisions to previously submitted control strategy implementation plans or maintenance plans explain and document any changes to previously submitted budgets and control measures; impacts on point and area source emissions; any changes to established safety margins (see § 93.101 for definition); and reasons for the changes (including the basis for any changes related to emission factors or estimates of vehicle miles traveled): The submitted maintenance plan establishes new 2009 and 2025 budgets to ensure continued maintenance of the standards; therefore, this is not applicable.

Adequacy Finding

Today's action is simply an announcement of a finding that we have already made. EPA Region 2 sent a letter to New Jersey on May 14, 2013, stating that the 2009 and 2025 motor vehicle emissions budgets in New Jersey's SIPs for both the Northern New Jersey and Southern New Jersey PM2.5 nonattainment areas are adequate because they are consistent with the required maintenance demonstration. In our letter we noted that there are existing approved and adequate budgets for 2009, but that the 2009 budgets contained in the submitted maintenance plans will be the most recent budgets in place to satisfy the latest Clean Air Act requirement and therefore will be the applicable 2009 budgets to be used in future transportation conformity determinations for analysis years prior to 2025.

Table 1—2009 PM2.5 Motor Vehicle Emissions Budgets for New Jersey
[Tons per year]
Metropolitan planning organization | Direct PM2.5 | NOX
North Jersey Transportation Planning Authority | 2,736 | 67,272
Delaware Valley Regional Planning Commission (Mercer County only) | 224 | 5,835
Delaware Valley Regional Planning Commission (Burlington, Camden, and Gloucester Counties) | 680 | 18,254

Table 2—2025 PM2.5 Motor Vehicle Emissions Budgets for New Jersey
[Tons per year]
Metropolitan planning organization | Direct PM2.5 | NOX
North Jersey Transportation Planning Authority | 1,509 | 25,437
Delaware Valley Regional Planning Commission (Mercer County only) | 119 | 2,551
Delaware Valley Regional Planning Commission (Burlington, Camden, and Gloucester Counties) | 363 | 8,003

List of Subjects in 40 CFR Part 52

Environmental protection, Air pollution control, Incorporation by reference, Intergovernmental relations, Nitrogen dioxide, Particulate matter, Reporting and recordkeeping requirements.

Authority: 42 U.S.C. 7401-7671q.

Dated: June 10, 2013.
Judith A. Enck,
Regional Administrator, Region 2.

[FR Doc. 2013-14908 Filed 6-21-13; 8:45 am]

BILLING CODE 6560-50-P